DEPARTMENT OF HOMELAND SECURITY

Federal Emergency Management Agency

44 CFR Part 67

[Docket ID FEMA-2008-0020]

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground Modified
Ashland County, Ohio
FEMA Docket No.: B-7795
Ohio | Ashland County | Lang Creek | Approximately 200 feet upstream of eastern corporate limit of the City of Ashland | +983
|  |  | At Orange Street | +990
Ohio | Ashland County | Town Run | Approximately 410 feet downstream of Brookside Golf Course Drive | +1,126
|  |  | At Brookside Golf Course Drive | +1,144
* National Geodetic Vertical Datum.
+ North American Vertical Datum.
# Depth in feet above ground.
ADDRESSES
Ashland County
Maps are available for inspection at 110 Cottage Street, Ashland, OH 44805.

Flooding source(s) | Location of referenced elevation | * Elevation in feet (NGVD) + Elevation in feet (NAVD) # Depth in feet above ground Modified | Communities affected
Leon County, Florida, and Incorporated Areas
FEMA Docket No.: B-7781
East Drainage Ditch | Approximately 400 feet upstream of South Blair Stone Road | +90 | City of Tallahassee.
| Approximately 1,000 feet upstream of Paul Russell Road | +94 |
Indianhead Branch 2 | Just downstream of Putnam Drive | +63 | City of Tallahassee.
| Just upstream of East Magnolia Drive | +67 |
Northeast Drainage Ditch Tributary 1 | Approximately 200 feet upstream of the confluence of Northeast Drainage Ditch | +91 | City of Tallahassee.
| Just downstream of Lonnbladh Road | +95 |
Northeast Drainage Ditch Tributary 2 | Approximately 450 feet upstream of the confluence of Northeast Drainage Ditch | +60 | City of Tallahassee.
| Just upstream of U.S. Route 319 | +95
* National Geodetic Vertical Datum.
+ North American Vertical Datum.
# Depth in feet above ground.
ADDRESSES
City of Tallahassee
Maps are available for inspection at Tallahassee City Hall, 300 South Adams Street, Tallahassee, FL.
Pinellas County, Florida, and Incorporated Areas
FEMA Docket No.: B-7794
Channel 1 | Approximately 160 feet downstream of 90th Avenue N | +11 | City of Pinellas Park, Unincorporated Areas of Pinellas County.
| Approximately 1,980 feet upstream of 102nd Avenue N | +14 |
Channel 2 | Approximately 290 feet upstream of Gandy Boulevard | +10 | City of Pinellas Park.
| Just downstream of Highway 19 | +12 |
Channel 3 | At 68th Avenue N | +10 | Unincorporated Areas of Pinellas County, City of Pinellas Park.
| Just downstream of 49th Street N | +17 |
Joe's Creek Tributary 4 (Channel 4) | Approximately 2,400 feet upstream of the confluence with Joe's Creek | +12 | City of Pinellas Park, Unincorporated Areas of Pinellas County.
| Approximately 1,000 feet upstream of 62nd Street N | +28 |
Lake Parcel | Flooding area bound by 96th Terrace N to the north, 34th Way N to the west, Gateway Boulevard to the south, and MCI Drive to the east | +9 | City of Pinellas Park.
| Flooding area bound by 97th Avenue N to the north, 37th Street N to the west, 93rd Avenue N to the south, and Mainlands Boulevard E to the east | +10 |
Lake Tamarac | Flooding area bound by Mainlands Boulevard N to the north, Mainlands Boulevard W to the west, 96th Terrace Lane N to the south, and 41st Street N to the east | +11 | City of Pinellas Park.
Ponding Area | Ponding area bound by 102nd Avenue N to the north, 64th Street N to the west, 98th Avenue N to the south, and 62nd Street N to the east | +14 | City of Pinellas Park.
| Ponding area bound by 99 Circle N to the north, 66th Street N to the west, 94th Avenue N to the south, and 61st Way N to the east | +13 |
| Ponding area bound by 94th Avenue N to the north, 66th Street N to the west, 90th Avenue N to the south, and 62nd Street N to the east | +13 |
| Ponding area bound by CSX Railroad to the north, 63rd Way N to the west, 82nd Avenue N to the south, and CSX Railroad to the east | +12 |
| Ponding area bound by 86th Avenue N to the north, CSX Railroad to the west, 82nd Avenue N to the south, and 62nd Street N to the east | +11 |
| Ponding area bound by 82nd Avenue N to the north, 63rd Street N to the west, 80th Avenue N to the south, and 61st Lane N to the east | +13 |
| Ponding area bound by 80th Avenue N to the north, 62nd Street N to the west, 78th Avenue N to the south, and 60th Street N to the east | +12 |
| Ponding area bound by 102nd Avenue N to the north, Highway 19 to the west, Highway 19 to the south, and 45th Way N to the east | +12 |
| Ponding area bound by Mainlands Boulevard N to the north, 41st Street N to the west, 96th Terrace N to the south, and 40th Street N to the east | +11 |
| Ponding area bound by Mainlands Boulevard W to the north, Highway 19 to the west, Gateway Boulevard to the south, and 40th Street N to the east | +11 |
| Ponding area bound by 86th Avenue N to the north, 44th Street N to the west, 78th Avenue N to the south, and Highway 19 to the east | +14 |
| Ponding area bound by Highway 19 to the north, 46th Street N to the west, 85th Terrace N to the south, and Highway 19 to the east | +11 |
| Ponding area bound by 94th Avenue N to the north, 49th Street N to the west, 86th Avenue N to the south, and Highway 19 to the east | +12 |
| Ponding area bound by 94th Avenue N to the north, 49th Street N to the west, 90th Avenue N to the south, and Highway 19 to the east | +12 |
| Ponding area bound by 82nd Avenue N to the north, 52nd Street N to the west, 78th Avenue N to the south, and 47th Street N to the east | +14 |
| Ponding area bound by 87th Terrace N to the north, 53rd Way N to the west, 82nd Terrace N to the south, and 52nd Way N to the east | +11 |
| Ponding area bound by 86th Avenue N to the north, 60th Street N to the west, 78th Avenue N to the south, and 52nd Street N to the east | +13 |
| Ponding area bound by 70th Avenue N to the north, 65th Street N to the west, 67th Avenue N to the south, and 63rd Way N to the east | +15 |
| Ponding area bound by 80th Avenue N to the north, 47th Street N to the west, Park Boulevard N to the south, and 40th Street N to the east | +15 |
| Ponding area bound by Park Boulevard N to the north, CSX Railroad to the west, 68th Avenue N to the south, and 41st Street N to the east | +16 |
| Ponding area bound by 76th Avenue N, 56th Street N to the west, 71st Avenue N to the south, and 52nd Street N to the east | +15 |
| Ponding area bound by 68th Avenue N to the north, 51st Way N to the west, 65th Avenue N to the south, and 49th Way N to the east | +15 |
| Ponding area bound by 66th Avenue N to the north, 47th Street N to the west, 58th Avenue N to the south, and 35th Street N to the east | +27 |
| Ponding area bound by Gateway Center Parkway to the north, 34th Street N to the west, Grand Avenue to the south, and 28th Street N to the east | +10 |
| Ponding area bounded by Gateway Boulevard to the north, 37th Street to the west, Grand Avenue to the south, and Gateway Center Parkway to the east | +10 |
| Ponding area bound by Mainlands Boulevard N to the north, 40th Street N to the west, 99th Terrace N to the south, and 38th Way N to the east | +11 |
| Ponding area bound by 103rd Avenue N to the north, 39th Street N to the west, 101st Avenue N to the south, and 36th Court to the east | +10 |
| Ponding area bound by 99th Place N to the north, Mainlands Boulevard E to the west, 98th Terrace N to the south, and 34th Way N to the east | +10 |
Ponding Area | Ponding area bound by 62nd Avenue N to the north, 66th Street N to the west, 54th Avenue N to the south, and 54th Street N to the east | +14 | Unincorporated Areas of Pinellas County.
| Ponding area bound by 54th Avenue N to the north, 69th Way N to the west, 49th Avenue N to the south, and 68th Way N to the east | +15
* National Geodetic Vertical Datum.
+ North American Vertical Datum.
# Depth in feet above ground.
ADDRESSES
City of Pinellas Park
Maps are available for inspection at Pinellas Park City Hall, 5141 78th Avenue, Pinellas Park, FL 33781.
Unincorporated Areas of Pinellas County
Maps are available for inspection at Pinellas County Development Review, 310 Court Street, Clearwater, FL 33756.
Douglas County, Georgia, and Incorporated Areas
FEMA Docket No.: B-7753
Alexander Branch | At confluence with Bear Creek | +957 | Unincorporated Areas of Douglas County.
| Approximately 3,630 feet upstream of the confluence of Alexander Branch Tributary B | +1,094 |
Alexander Branch Tributary A | At confluence with Alexander Branch | +1,000 | Unincorporated Areas of Douglas County.
| Approximately 1,080 feet upstream of Cougar Trail | +1,040 |
Alexander Branch Tributary B | At confluence with Alexander Branch | +1,026 | Unincorporated Areas of Douglas County.
| Approximately 1,030 feet upstream of confluence with Alexander Branch | +1,060 |
Amber Creek | At confluence with Anneewakee Creek | +789 | Unincorporated Areas of Douglas County.
| Approximately 4,610 feet upstream of Jan Drive | +934 |
Amber Creek Tributary A | At confluence with Amber Creek | +823 | Unincorporated Areas of Douglas County.
| Approximately 2,540 feet upstream of Jan Drive | +902 |
Anneewakee Creek | Approximately 670 feet upstream of State Highway 166 | +747 | Unincorporated Areas of Douglas County, City of Douglasville.
| Approximately 2,480 feet upstream of the confluence of Anneewakee Creek Tributary L | +1,147 |
Anneewakee Creek Tributary A | At confluence with Anneewakee Creek | +747 | Unincorporated Areas of Douglas County.
| Approximately 2,880 feet upstream of confluence with Anneewakee Creek | +799 |
Anneewakee Creek Tributary B | At confluence with Anneewakee Creek | +747 | Unincorporated Areas of Douglas County.
| Approximately 2,320 feet upstream of confluence with Anneewakee Creek | +811 |
Anneewakee Creek Tributary C | At confluence with Anneewakee Creek | +776 | Unincorporated Areas of Douglas County.
| Approximately 1,400 feet upstream of confluence with Anneewakee Creek | +866 |
Anneewakee Creek Tributary D | At confluence with Anneewakee Creek | +844 | Unincorporated Areas of Douglas County.
| Approximately 2,150 feet upstream of confluence with Anneewakee Creek | +906 |
Anneewakee Creek Tributary E | At confluence with Anneewakee Creek | +873 | Unincorporated Areas of Douglas County.
| Approximately 2,910 feet upstream of confluence with Anneewakee Creek | +894 |
Anneewakee Creek Tributary F | At confluence with Anneewakee Creek | +879 | Unincorporated Areas of Douglas County.
| Approximately 4,000 feet upstream of confluence with Anneewakee Creek | +913 |
Anneewakee Creek Tributary G | At confluence with Anneewakee Creek | +892 | Unincorporated Areas of Douglas County.
| Approximately 4,270 feet upstream of confluence with Anneewakee Creek | +980 |
Anneewakee Creek Tributary H | At confluence with Anneewakee Creek | +894 | Unincorporated Areas of Douglas County, City of Douglasville.
| Approximately 2,450 feet upstream of confluence with Anneewakee Creek | +915 |
Anneewakee Creek Tributary I | At confluence with Anneewakee Creek | +895 | Unincorporated Areas of Douglas County.
| Approximately 840 feet upstream of Warren Road | +948 |
Anneewakee Creek Tributary J | At confluence with Anneewakee Creek | +945 | Unincorporated Areas of Douglas County, City of Douglasville.
| Approximately 2,690 feet upstream of confluence with Anneewakee Creek | +1010 |
Anneewakee Creek Tributary K | At confluence with Anneewakee Creek | +1,063 | City of Douglasville.
| Approximately 1,560 feet upstream of Rose Lake Circle | +1,128 |
Anneewakee Creek Tributary L | At confluence with Anneewakee Creek | +1,108 | City of Douglasville.
| Approximately 300 feet upstream of Gurley Road | +1,131 |
Arbor Branch | At confluence with Anneewakee Creek | +995 | Unincorporated Areas of Douglas County, City of Douglasville.
| Approximately 160 feet upstream of Pine Lane | +1,125 |
Arbor Branch Tributary A | At confluence with Arbor Branch | +1,084 | City of Douglasville.
| Approximately 1,310 feet upstream of Interstate Highway 20/Tom Murphy Freeway | +1,127 |
Austin Creek | At confluence with Anneewakee Creek | +935 | Unincorporated Areas of Douglas County.
| Approximately 210 feet upstream of Mill Glen Drive | +1,083 |
Baldwin Creek | At confluence with Little Bear Creek | +763 | Unincorporated Areas of Douglas County.
| Approximately 820 feet upstream of North Bear Drive | +1,049 |
Baldwin Creek Tributary A | At confluence with Baldwin Creek | +941 | Unincorporated Areas of Douglas County.
| Approximately 2,450 feet upstream of Dorsett Shoals Road | +1,084 |
Bear Creek | Approximately 300 feet upstream of confluence with Chattahoochee River | +741 | Unincorporated Areas of Douglas County.
| Approximately 630 feet upstream of Ridge Way | +1,128 |
Bear Creek Tributary A | At confluence with Bear Creek | +741 | Unincorporated Areas of Douglas County.
| Approximately 1,190 feet upstream of confluence with Bear Creek | +752 |
Bear Creek Tributary B | At confluence with Bear Creek | +741 | Unincorporated Areas of Douglas County.
| Approximately 530 feet upstream of State Highway 166 | +780 |
Bear Creek Tributary C | At confluence with Bear Creek | +756 | Unincorporated Areas of Douglas County.
| Approximately 390 feet upstream of Fouts Mill Road | +782 |
Bear Creek Tributary D | At confluence with Bear Creek | +761 | Unincorporated Areas of Douglas County.
| Approximately 420 feet upstream of Fox Glove Court | +820 |
Bear Creek Tributary E | At confluence with Bear Creek | +774 | Unincorporated Areas of Douglas County.
| Approximately 2,140 feet upstream of confluence with Bear Creek | +827 |
Bear Creek Tributary F | At confluence with Bear Creek | +818 | Unincorporated Areas of Douglas County.
| Approximately 400 feet upstream of Yorktown Road | +901 |
Bear Creek Tributary G | At confluence with Bear Creek | +822 | Unincorporated Areas of Douglas County.
| Approximately 330 feet upstream of Kings Highway | +967 |
Bomar Branch | Approximately 50 feet upstream of confluence with Anneewakee Creek | +881 | Unincorporated Areas of Douglas County.
| Approximately 230 feet upstream of Appaloosa Trail | +939 |
Chapel Farms Creek | At confluence with Anneewakee Creek | +769 | Unincorporated Areas of Douglas County.
| Approximately 760 feet upstream of confluence of Chapel Farms Creek Tributary A | +917 |
Chapel Farms Creek Tributary A | At confluence with Chapel Farms Creek | +908 | Unincorporated Areas of Douglas County.
| Approximately 1,020 feet upstream of confluence with Chapel Farms Creek | +920 |
Coursey Creek | At confluence with Little Bear Creek | +813 | Unincorporated Areas of Douglas County.
| Approximately 4,510 feet upstream of Dorsett Shoals Road | +944 |
Crooked Creek | At confluence with Anneewakee Creek | +875 | Unincorporated Areas of Douglas County.
| Approximately 4,070 feet upstream of Bomar Road | +1,021 |
Crooked Creek Tributary A | At confluence with Crooked Creek | +897 | Unincorporated Areas of Douglas County.
| Approximately 4,270 feet upstream of confluence with Crooked Creek | +943 |
Crooked Creek Tributary B | At confluence with Crooked Creek | +909 | Unincorporated Areas of Douglas County.
| Approximately 290 feet upstream of Pilgrim Drive | +938 |
Crooked Creek Tributary C | At confluence with Crooked Creek | +914 | Unincorporated Areas of Douglas County.
| Approximately 430 feet upstream of Tara Woods Drive | +934 |
Crooked Creek Tributary D | At confluence with Crooked Creek | +930 | Unincorporated Areas of Douglas County.
| Approximately 2,880 feet upstream of confluence with Crooked Creek | +969 |
Crossing Branch | At confluence with Anneewakee Creek | +905 | Unincorporated Areas of Douglas County, City of Douglasville.
| Approximately 6,340 feet upstream of confluence with Anneewakee Creek | +984 |
Dorsett Creek | At confluence with Bear Creek | +936 | Unincorporated Areas of Douglas County.
| Approximately 440 feet upstream of Dorsett Shoals Road | +1,059 |
Douglas County Water Reservoir | Entire shoreline | +760 | Unincorporated Areas of Douglas County.
Farm Branch | At confluence with Anneewakee Creek | +885 | Unincorporated Areas of Douglas County.
| Approximately 290 feet upstream of Camel Drive | +927 |
Farm Branch Tributary A | At confluence with Farm Branch | +888 | Unincorporated Areas of Douglas County.
| Approximately 2,350 feet upstream of Bomar Road | +942 |
Gothards Creek | Approximately 12,900 feet downstream of confluence of Gothards Creek Tributary 3 | +923 | Unincorporated Areas of Douglas County.
| Approximately 10,000 feet downstream of confluence of Gothards Creek Tributary 3 | +926 |
Knollwood Branch | At confluence with Anneewakee Creek | +972 | Unincorporated Areas of Douglas County, City of Douglasville.
| Approximately 310 feet upstream of State Highway 5 | +1,143 |
Knollwood Branch Tributary A | At confluence with Knollwood Branch | +1,105 | Unincorporated Areas of Douglas County.
| Approximately 200 feet upstream of Pinehurst Way | +1,137 |
Little Anneewakee Creek | At confluence with Anneewakee Creek | +897 | Unincorporated Areas of Douglas County, City of Douglasville.
| Approximately 450 feet upstream of East Big B Road | +1,058 |
Little Anneewakee Creek Tributary A | At confluence with Little Anneewakee Creek | +905 | Unincorporated Areas of Douglas County, City of Douglasville.
| Approximately 1,610 feet upstream of Bedford Place | +1,043 |
Little Anneewakee Creek Tributary B | At confluence with Little Anneewakee Creek | +910 | City of Douglasville.
| Approximately 940 feet upstream of Logan Lane | +967 |
Little Anneewakee Creek Tributary C | At confluence with Little Anneewakee Creek | +925 | Unincorporated Areas of Douglas County, City of Douglasville.
| Approximately 1,910 feet upstream of confluence with Little Anneewakee Creek | +955 |
Little Anneewakee Creek Tributary D | At confluence with Little Anneewakee Creek | +948 | Unincorporated Areas of Douglas County, City of Douglasville.
| Approximately 300 feet upstream of Cindy Drive (2nd crossing) | +1,003 |
Little Anneewakee Creek Tributary E | At confluence with Little Anneewakee Creek | +958 | Unincorporated Areas of Douglas County, City of Douglasville.
| Approximately 2,020 feet upstream of Little Anneewakee Creek | +1,040 |
Little Bear Creek | At confluence with Bear Creek | +756 | Unincorporated Areas of Douglas County.
| Approximately 7,350 feet upstream of Smokestone Drive | +1,019 |
Little Bear Creek Tributary A | At confluence with Little Bear Creek | +776 | Unincorporated Areas of Douglas County.
| Approximately 3,520 feet upstream of confluence of Little Bear Creek Tributary B | +880 |
Little Bear Creek Tributary B | At confluence with Little Bear Creek Tributary A | +806 | Unincorporated Areas of Douglas County.
| Approximately 1,340 feet upstream of confluence with Little Bear Creek Tributary A | +841 |
Little Bear Creek Tributary C | At confluence with Little Bear Creek | +791 | Unincorporated Areas of Douglas County.
| Approximately 4,760 feet upstream of confluence with Little Bear Creek | +882 |
Little Bear Creek Tributary D | At confluence with Little Bear Creek | +817 | Unincorporated Areas of Douglas County.
| Approximately 3,160 feet upstream of confluence with Little Bear Creek | +923 |
Little Bear Creek Tributary E | At confluence with Little Bear Creek | +827 | Unincorporated Areas of Douglas County.
| Approximately 7,500 feet upstream of confluence with Little Bear Creek | +917 |
Little Bear Creek Tributary F | At confluence with Little Bear Creek | +920 | Unincorporated Areas of Douglas County.
| Approximately 2,080 feet upstream of confluence with Little Bear Creek | +941 |
Mobley Creek Tributary 6 | Approximately 20 feet upstream of confluence with Mobley Creek | +934 | Unincorporated Areas of Douglas County.
| Approximately 450 feet upstream of confluence with Mobley Creek | +935 |
Panther Creek | At confluence with Chapel Farms Creek | +773 | Unincorporated Areas of Douglas County.
| Approximately 1,230 feet upstream of Chapel Hill Farms Drive | +933 |
Panther Creek Tributary A | At confluence with Panther Creek | +826 | Unincorporated Areas of Douglas County.
| Approximately 1,320 feet upstream of confluence with Panther Creek | +851 |
Simon Creek | At confluence with Anneewakee Creek | +878 | Unincorporated Areas of Douglas County.
| Approximately 1,660 feet upstream of Harvest Ridge Drive | +934 |
Slater Mill Creek | At confluence with Little Anneewakee Creek | +942 | Unincorporated Areas of Douglas County, City of Douglasville.
| Approximately 400 feet upstream of Village Court | +1,059 |
Slater Mill Creek Tributary A | At confluence with Slater Mill Creek | +1,031 | City of Douglasville.
| Approximately 360 feet upstream of East Spring Street | +1,171 |
Slater Mill Creek Tributary B | At confluence with Slater Mill Creek | +1,032 | Unincorporated Areas of Douglas County, City of Douglasville.
| Approximately 1,360 feet upstream of Fairburn Road/State Highway 92 | +1,069 |
Sweetwater Creek | Approximately 5,900 feet downstream of State Highway 61/Dallas Highway | +972 | Unincorporated Areas of Douglas County.
| Approximately 2,450 feet upstream of State Highway 61/Dallas Highway | +979 |
Tanyard Branch | At confluence with Little Bear Creek | +805 | Unincorporated Areas of Douglas County.
| Approximately 210 feet upstream of Canterbury Walk Way | +1,132 |
Tanyard Branch Tributary A | At confluence with Tanyard Branch | +1,003 | Unincorporated Areas of Douglas County.
| Approximately 380 feet upstream of Twin Oak Drive | +1,081 |
Tiger Creek | At confluence with Anneewakee Creek | +1,045 | City of Douglasville.
| Approximately 650 feet upstream of Rose Avenue | +1,152 |
Tiger Creek Tributary A | At confluence with Tiger Creek | +1,086 | City of Douglasville.
| Approximately 880 feet upstream of confluence with Tiger Creek | +1,097
* National Geodetic Vertical Datum.
+ North American Vertical Datum.
# Depth in feet above ground.
ADDRESSES
City of Douglasville
Maps are available for inspection at 6695 Church Street, Douglasville, GA 30134.
Unincorporated Areas of Douglas County
Maps are available for inspection at 8700 Hospital Drive, Douglasville, GA 30134.
Morgan County, Illinois, and Incorporated Areas
FEMA Docket No.: B-7798
Illinois River | From the Scott/Morgan County Border; Smith Lake Road extended | +447 | Unincorporated Areas of Morgan County, Village of Meredosia.
| To the Cass/Morgan County Border; Morgan Cass County Line Road | +448 |
Mauvaise Terre Creek | From approximately Michigan Avenue extended | +595 | Village of S. Jacksonville.
| To approximately 50 feet downstream of Vandalia Road; approximately 60 feet upstream of Country Club Road | +595 |
Town Brook | From Massey Lane | +603 | Unincorporated Areas of Morgan County.
| To the limit of Detailed Study; approximately 650 feet upstream of Massey Lane | +603
* National Geodetic Vertical Datum.
+ North American Vertical Datum.
# Depth in feet above ground.
ADDRESSES
Unincorporated Areas of Morgan County
Maps are available for inspection at Morgan County Regional Planning Commission, 345 West State Street, Jacksonville, IL 62650.
Village of Meredosia
Maps are available for inspection at Meredosia Village Hall, 315 Main Street, Meredosia, IL 62665.
Village of S. Jacksonville
Maps are available for inspection at South Jacksonville Village Hall, 301 Dewey Street, South Jacksonville, IL 62650.
Scott County, Illinois, and Incorporated Areas
FEMA Docket No.: B-7798
Illinois River | From river mile 67.0, approximately 500 feet upstream of the confluence with Coon Run | +447 | Unincorporated Areas of Scott County.
| To the Morgan/Scott county boundary at river mile 68.0—approximately Smith Lake Road extended | +447
* National Geodetic Vertical Datum.
+ North American Vertical Datum.
# Depth in feet above ground.
ADDRESSES
Unincorporated Areas of Scott County
Maps are available for inspection at Scott County Courthouse, 35 East Market Street, Winchester, IL 62694.
Leavenworth County, Kansas, and Incorporated Areas
FEMA Docket No.: B-7786
Stranger Creek | At Highway 32 | +796 | Unincorporated Areas of Leavenworth County, City of Easton, City of Linwood.
| At Tonganoxie Road | +842 |
| At Millwood Road | +914
* National Geodetic Vertical Datum.
+ North American Vertical Datum.
# Depth in feet above ground.
ADDRESSES
City of Easton
Maps are available for inspection at City Hall, 300 W. Riley, Easton, KS 66020.
City of Linwood
Maps are available for inspection at City Hall, 306 Main Street, Linwood, KS 66052.
Unincorporated Areas of Leavenworth County
Maps are available for inspection at Leavenworth County Courthouse, 4th and Walnut, Leavenworth, KS 66048.
Surry County, North Carolina and Incorporated Areas
Docket No.: FEMA-B-7795
Ararat River | At the confluence with Yadkin River | +803 | Unincorporated Areas of Surry County, City of Mount Airy.
| Approximately 1,500 feet upstream of Riverside Drive (State Road 104) | +1,094 |
Ararat River Tributary 1 | At the confluence with Ararat River | +810 | Unincorporated Areas of Surry County.
| Approximately 0.5 mile upstream of the confluence with Ararat River | +870 |
Ararat River Tributary 2 | At the confluence with Ararat River | +813 | Unincorporated Areas of Surry County.
| Approximately 0.4 mile upstream of John Scott Road (State Road 2079) | +842 |
Ararat River Tributary 3 | At the confluence with Ararat River | +818 | Unincorporated Areas of Surry County.
| Approximately 0.6 mile upstream of Reeves Road (State Road 2083) | +856 |
Ararat River Tributary 4 | At the confluence with Ararat River | +818 | Unincorporated Areas of Surry County.
| Approximately 1.2 miles upstream of Pilot Church Road (State Road 2057) | +913 |
Ararat River Tributary 5 | At the confluence with Ararat River | +825 | Unincorporated Areas of Surry County.
| Approximately 0.6 mile upstream of the confluence with Ararat River | +900 |
Ararat River Tributary 6 | At the confluence with Ararat River | +841 | Unincorporated Areas of Surry County.
| Approximately 20 feet upstream of Nichols Road (State Road 2105) | +872 |
Ararat River Tributary 6A | At the confluence with Ararat River Tributary 6 | +862 | Unincorporated Areas of Surry County.
| Approximately 530 feet upstream of the confluence with Ararat River Tributary 6 | +869 |
Ararat River Tributary 7 | At the confluence with Ararat River | +867 | Unincorporated Areas of Surry County.
| Approximately 0.4 mile upstream of the confluence with Ararat River | +884 |
Ararat River Tributary 8 | At the downstream side of Riverside Drive | +1,037 | City of Mount Airy.
| Approximately 130 feet downstream of Springs Road | +1,135 |
Ararat River Tributary 9 | At the confluence with Ararat River | +1,089 | Unincorporated Areas of Surry County.
| Approximately 0.9 mile upstream of the confluence with Ararat River | +1,135 |
Bear Creek | At the confluence with Fisher River | +886 | Unincorporated Areas of Surry County.
| Approximately 1.5 miles upstream of the confluence with Fisher River | +940 |
Beaver Creek | At the confluence with Fisher River | +955 | Unincorporated Areas of Surry County.
| Approximately 1.0 mile upstream of Simpson Mill Road (State Road 2200) | +1,046 |
Beaverdam Creek | At the confluence with Little Fisher River | +1,078 | Unincorporated Areas of Surry County.
| Approximately 1.2 miles upstream of the confluence with Hatchers Creek | +1,130 |
Benson Creek | At the upstream side of Sparger Road | +1,068 | Unincorporated Areas of Surry County.
| Approximately 0.9 mile upstream of Sparger Road | +1,109
Brendle Branch | At the confluence with Camp Creek | +944 | Unincorporated Areas of Surry County.
| Approximately 0.9 mile of Interstate 77 | +1,000
Brushy Fork | Approximately 700 feet upstream of the confluence with Pauls Creek | +1,118 | Unincorporated Areas of Surry County, City of Mount Airy.
| Approximately 0.5 mile upstream of White Pines Country Club Road (State Road 1627) | +1,175
Brushy Fork Tributary 1 | At the confluence with Brushy Fork | +1,130 | Unincorporated Areas of Surry County.
| Approximately 0.6 mile upstream of the confluence with Brushy Fork | +1,171
Bull Creek | At the confluence with Ararat River | +875 | Unincorporated Areas of Surry County.
| Approximately 1.0 mile upstream of Ararat Road (State Road 2019) | +1,024
Butler Creek | At the confluence with Mitchell River | +1,248 | Unincorporated Areas of Surry County.
| Approximately 210 feet upstream of Luffman Road | +1,279
Caddle Creek | At the confluence with Ararat River | +940 | Unincorporated Areas of Surry County.
| Approximately 0.6 mile upstream of Siloam Road (State Road 1003) | +1,018
Camp Branch | At the confluence with Fisher River | +1,251 | Unincorporated Areas of Surry County.
| Approximately 200 feet upstream of West Pine Street | +1,274
Camp Creek | At the confluence with Mitchell River | +914 | Unincorporated Areas of Surry County, Town of Elkin.
| Approximately 0.8 mile upstream of I-77 Highway | +978
Candiff Creek | At the confluence with Yadkin River | +811 | Unincorporated Areas of Surry County.
| Approximately 1,690 feet upstream of the confluence with Candiff Creek Tributary 2 | +894
Candiff Creek Tributary 1 | At the confluence with Candiff Creek | +811 | Unincorporated Areas of Surry County.
| Approximately 1,260 feet upstream of River Siloam Road (State Road 2230) | +857
Candiff Creek Tributary 2 | At the confluence with Candiff Creek | +875 | Unincorporated Areas of Surry County.
| Approximately 0.7 mile upstream of the confluence with Candiff Creek | +923
Champ Creek | Approximately 450 feet upstream of Slate Road | +1,040 | City of Mount Airy.
| Approximately 700 feet upstream of McBride Road | +1,065
Chinquapin Creek | At the confluence with Toms Creek | +957 | Unincorporated Areas of Surry County, Town of Pilot Mountain.
| Approximately 0.8 mile upstream of Old Westfield Road (State Road 1809) | +982
Cody Creek | At the confluence with Fisher River | +904 | Unincorporated Areas of Surry County.
| Approximately 1.7 miles upstream of NC 268 Highway | +1,021
Cooks Creek | At the confluence with Fisher River | +1,025 | Unincorporated Areas of Surry County.
| Approximately 0.4 mile upstream of White Buffalo Road (State Road 1353) | +1,084
Davenport Creek | At the confluence with Fisher River | +850 | Unincorporated Areas of Surry County.
| Approximately 0.6 mile upstream of the confluence with Fisher River | +898
Dunagan Creek | At the confluence with Fisher River | +873 | Unincorporated Areas of Surry County.
| Approximately 0.4 mile upstream of Buck Fork Road (State Road 2233) | +901
Dutchmans Creek | At the confluence with Yadkin River | +896 | Town of Elkin.
| Approximately 0.6 mile upstream of the confluence with Yadkin River | +898
East Double Creek | At the confluence with Yadkin River | +822 | Unincorporated Areas of Surry County.
| Approximately 0.7 mile upstream of Rome Snow Road (State Road 2229) | +941
East Double Creek Tributary 1 | At the confluence with East Double Creek | +874 | Unincorporated Areas of Surry County.
| Approximately 0.7 mile upstream of the confluence with East Double Creek | +939
Elkin Creek | Approximately 50 feet upstream of Dam | +901 | Town of Elkin.
| Approximately 0.8 mile upstream of CC Camp Road | +945
Faulkner Creek | Approximately 0.5 mile upstream of the confluence with Ararat River | +1,007 | Unincorporated Areas of Surry County, City of Mount Airy.
| Approximately 1.1 miles upstream of Quaker Road (State Road 1742) | +1,194
Faulkner Creek Tributary 1 | At the confluence with Faulkner Creek | +1,035 | Unincorporated Areas of Surry County.
| Approximately 0.5 mile upstream of the confluence with Faulkner Creek | +1,059
Fisher River | At the confluence with Yadkin River | +847 | Unincorporated Areas of Surry County, Town of Dobson.
| Approximately 1.1 miles upstream of Lumber Plant Road (State Road 1600) | +2,009
Fisher River Tributary 1 | At the confluence with Fisher River | +915 | Unincorporated Areas of Surry County.
| Approximately 0.7 mile upstream of Rockford Road | +974
Fisher River Tributary 1A | At the confluence with Fisher River Tributary 1 | +940 | Unincorporated Areas of Surry County.
| Approximately 0.8 mile upstream of the confluence with Fisher River Tributary 1 | +1,098
Fisher River Tributary 2 | At the confluence with Fisher River | +964 | Unincorporated Areas of Surry County.
| Approximately 1,420 feet downstream of Turkey Ford Church Road | +1,028
Fisher River Tributary 3 | At the confluence with Fisher River | +978 | Unincorporated Areas of Surry County.
| Approximately 0.8 mile upstream of the confluence with Fisher River | +1,010
Fisher River Tributary 4 | At the confluence with Fisher River | +1,026 | Unincorporated Areas of Surry County.
| Approximately 0.8 mile upstream of the confluence with Fisher River | +1,109
Fisher River Tributary 5 | At the confluence with Fisher River | +1,074 | Unincorporated Areas of Surry County, Town of Dobson.
| Approximately 820 feet upstream of Tobe Hudson Road (State Road 1342) | +1,086
Flat Branch | At the confluence with South Fork Mitchell River | +1,108 | Unincorporated Areas of Surry County.
| Approximately 0.7 mile upstream of the confluence with South Fork Mitchell River | +1,156
Flat Shoal Creek | At the confluence with Ararat River | +900 | Unincorporated Areas of Surry County.
| Approximately 490 feet upstream of Simmons Road (State Road 1827) | +1,071
Flat Shoal Creek Tributary 1 | At the confluence with Flat Shoal Creek | +990 | Unincorporated Areas of Surry County.
| Approximately 0.5 mile upstream of Willow Shade Lane | +1,033
Grassy Creek | At the confluence with Yadkin River | +762 | Unincorporated Areas of Surry County.
| Approximately 0.7 mile upstream of Pilot Knob Park Road (State Road 2053) | +1,027
Grassy Creek Tributary 1 | At the confluence with Grassy Creek | +792 | Unincorporated Areas of Surry County.
| Approximately 0.5 mile upstream of the confluence with Grassy Creek | +824
Grassy Creek Tributary 2 | At the confluence with Grassy Creek | +797 | Unincorporated Areas of Surry County.
| Approximately 1.2 miles upstream of the confluence with Grassy Creek | +905
Grassy Creek Tributary 3 | At the confluence with Grassy Creek | +804 | Unincorporated Areas of Surry County.
| Approximately 1.0 mile upstream of the confluence with Grassy Creek | +892
Grassy Creek Tributary 4 | At the confluence with Grassy Creek | +834 | Unincorporated Areas of Surry County.
| Approximately 1,390 feet downstream of Shadow Creek Trail | +879
Grassy Creek Tributary 5 | At the confluence with Grassy Creek | +845 | Unincorporated Areas of Surry County.
| Approximately 0.9 mile upstream of Pinnacle Hotel Road | +1,008
Grassy Creek Tributary 5A | At the confluence with Grassy Creek Tributary 5 | +858 | Unincorporated Areas of Surry County.
| Approximately 240 feet downstream of Pinnacle Hotel Road (State Road 2061) | +986
Grassy Creek Tributary 5B | At the confluence with Grassy Creek Tributary 5 | +886 | Unincorporated Areas of Surry County.
| Approximately 0.5 mile upstream of the confluence with Grassy Creek Tributary 5 | +934
Grassy Creek Tributary 6 | At the confluence with Grassy Creek | +858 | Unincorporated Areas of Surry County.
| Approximately 380 feet upstream of Mt. Zion Road (State Road 2064) | +931
Grassy Creek Tributary 7 | At the confluence with Grassy Creek | +884 | Unincorporated Areas of Surry County.
| Approximately 1.1 miles upstream of Santa Fe Trail | +1,042
Grassy Creek Tributary 8 | At the confluence with Grassy Creek | +905 | Unincorporated Areas of Surry County.
| Approximately 1,500 feet upstream of the confluence with Grassy Creek | +915
Grassy Creek Tributary 9 | At the confluence with Grassy Creek | +977 | Unincorporated Areas of Surry County.
| Approximately 1,500 feet upstream of the confluence with Grassy Creek | +997
Grassy Creek West | At the Surry/Wilkes County boundary | +987 | Town of Elkin.
| Approximately 1,300 feet upstream of the Surry/Wilkes County boundary | +1,002
Hagan Creek | At the confluence with Yadkin River | +807 | Unincorporated Areas of Surry County.
| Approximately 1.9 miles upstream of Miller Gap Road | +1,068
Hagan Creek Tributary 1 | At the confluence with Hagan Creek | +848 | Unincorporated Areas of Surry County.
| Approximately 380 feet upstream of Solitude Trail | +891
Hagan Creek Tributary 2 | At the confluence with Hagan Creek | +939 | Unincorporated Areas of Surry County.
| Approximately 0.6 mile upstream of the confluence with Hagan Creek | +973
Hagan Creek Tributary 3 | At the confluence with Hagan Creek | +972 | Unincorporated Areas of Surry County.
| Approximately 0.9 mile upstream of the confluence with Hagan Creek | +1,024
Hatchers Creek | At the confluence with Beaverdam Creek | +1,101 | Unincorporated Areas of Surry County.
| Approximately 230 feet upstream of Beulah Road | +1,122
Heatherly Creek | At the confluence with Toms Creek | +918 | Unincorporated Areas of Surry County, Town of Pilot Mountain.
| Approximately 980 feet upstream of Nelson Street | +1,130
Horne Creek | At the confluence with Yadkin River | +764 | Unincorporated Areas of Surry County.
| Approximately 1,780 feet upstream of the confluence of Horne Creek Tributary 1 | +833
Horne Creek Tributary 1 | At the confluence with Horne Creek | +818 | Unincorporated Areas of Surry County.
| Approximately 0.4 mile upstream of the confluence of Horne Creek Tributary 1A | +861
Horne Creek Tributary 1A | At the confluence with Horne Creek Tributary 1 | +831 | Unincorporated Areas of Surry County.
| Approximately 1,400 feet upstream of the confluence with Horne Creek Tributary 1 | +855
Jackson Creek | At the confluence with Cooks Creek | +1,025 | Unincorporated Areas of Surry County.
| Approximately 1.1 miles upstream of the confluence with Cooks Creek | +1,062
Jackson Creek Tributary 1 | At the confluence with Jackson Creek | +1,028 | Unincorporated Areas of Surry County.
| Approximately 200 feet downstream of Rockford Street | +1,055
Jackson Creek Tributary 2 | At the confluence with Jackson Creek | +1,030 | Unincorporated Areas of Surry County.
| Approximately 100 feet downstream of Smith Road (State Road 1354) | +1,067
Johnson Creek | Approximately 100 feet upstream of Riverside Drive | +1,062 | Unincorporated Areas of Surry County, City of Mount Airy.
| Approximately 1.5 miles upstream of Riverside Drive | +1,097
King Creek | At the confluence with Cody Creek | +925 | Unincorporated Areas of Surry County.
| Approximately 1,710 feet upstream of U.S. 601 Highway | +1,002
Little Beaver Creek | At the confluence with Fisher River | +925 | Unincorporated Areas of Surry County.
| Approximately 50 feet downstream of Copeland School Road (State Road 2209) | +1,046
Little Creek | At the confluence with Snow Creek | +973 | Unincorporated Areas of Surry County.
| Approximately 810 feet upstream of Melton Road (State Road 1127) | +1,244
Little Fisher River | At the confluence with Fisher River | +1,027 | Unincorporated Areas of Surry County.
| Approximately 2.2 miles upstream of Richards Road (State Road 1614) | +1,209
Little Fisher River Tributary 1 | At the confluence with Little Fisher River | +1,041 | Unincorporated Areas of Surry County.
| Approximately 0.7 mile upstream of the confluence with Little Fisher River | +1,077
Little Fisher River Tributary 2 | At the confluence with Little Fisher River | +1,103 | Unincorporated Areas of Surry County.
| Approximately 800 feet downstream of Dynasty Lane | +1,151
Little Fisher River Tributary 3 | At the confluence with Little Fisher River | +1,112 | Unincorporated Areas of Surry County.
| Approximately 550 feet upstream of NC Highway 89 | +1,143
Little Fisher River Tributary 3A | At the confluence with Little Fisher River Tributary 3 | +1,113 | Unincorporated Areas of Surry County.
| Approximately 0.6 mile upstream of the confluence with Little Fisher River Tributary 3 | +1,135
Little Yadkin River | At the confluence with Yadkin River | +758 | Unincorporated Areas of Surry County.
| Approximately 1.0 mile upstream of the confluence with Yadkin River | +767
Long Creek | At the confluence with Mitchell River | +1,402 | Unincorporated Areas of Surry County.
| Approximately 1.1 miles upstream of the confluence with Mitchell River | +1,575
Lovills Creek | Approximately 0.5 mile upstream of the confluence with Ararat River | +991 | Unincorporated Areas of Surry County, City of Mount Airy.
| Approximately 1.5 miles upstream of Greenhill Road | +1,106
Mill Creek | At the confluence with Mitchell River | +1,099 | Unincorporated Areas of Surry County.
| Approximately 650 feet upstream of Ed Nixon Road (State Road 1321) | +1,158
Mitchell River | At the confluence with Yadkin River | +875 | Unincorporated Areas of Surry County.
| Approximately 2.2 miles upstream of Haystack Road (State Road 1328) | +1,480
Moores Fork | Approximately 1,300 feet upstream of the confluence with Stewarts Creek | +1,078 | Unincorporated Areas of Surry County.
| Approximately 0.5 mile upstream of Race Track Road (State Road 1620) | +1,099
Moores Fork Tributary 1 | At the confluence with Moores Fork | +1,085 | Unincorporated Areas of Surry County.
| Approximately 1,570 feet upstream of NC Highway 89 | +1,110
North Fork Mitchell River | At the confluence with Mitchell River | +1,232 | Unincorporated Areas of Surry County.
| Approximately 0.5 mile upstream of the confluence with Mitchell River | +1,248
North Prong South Fork Mitchell River | At the confluence with South Fork Mitchell River | +1,212 | Unincorporated Areas of Surry County.
| Approximately 0.4 mile upstream of Rams Ridge Trail | +1,407
Pheasant Creek | At the confluence with Fisher River | +860 | Unincorporated Areas of Surry County.
| Approximately 1,980 feet upstream of Chandler Road (State Road 2238) | +910
Pilot Creek | At the confluence with Ararat River | +858 | Unincorporated Areas of Surry County, Town of Pilot Mountain.
| Approximately 750 feet upstream of Leonard Road | +1,083
Pilot Creek Tributary 1 | At the confluence with Pilot Creek | +875 | Unincorporated Areas of Surry County.
| Approximately 0.4 mile upstream of Jim McKinney Road (State Road 2047) | +914
Pilot Creek Tributary 2 | At the confluence with Pilot Creek | +880 | Unincorporated Areas of Surry County.
| Approximately 0.5 mile upstream of the confluence with Pilot Creek | +912
Pilot Creek Tributary 3 | At the confluence with Pilot Creek | +936 | Unincorporated Areas of Surry County, Town of Pilot Mountain.
| Approximately 1,130 feet upstream of the confluence with Pilot Creek Tributary 3A | +999
Pilot Creek Tributary 3A | At the confluence with Pilot Creek Tributary 3 | +978 | Town of Pilot Mountain.
| Approximately 1,240 feet upstream of the confluence with Pilot Creek Tributary 3 | +1,011
Pilot Creek Tributary 4 | At the confluence with Pilot Creek | +1,005 | Unincorporated Areas of Surry County.
| Approximately 1,870 feet upstream of the confluence with Pilot Creek | +1,056
Pine Branch | At the confluence with Mitchell River | +1,110 | Unincorporated Areas of Surry County.
| Approximately 1,930 feet upstream of Millstone Trail | +1,134
Potters Creek | At the confluence with Mitchell River | +1,166 | Unincorporated Areas of Surry County.
| Approximately 0.9 mile upstream of the confluence with Mitchell River | +1,220
Ring Creek | At the confluence with Little Fisher River | +1,132 | Unincorporated Areas of Surry County.
| Approximately 1.0 mile upstream of Richards Road | +1,166
Rutledge Creek | At the confluence with Ararat River | +972 | Unincorporated Areas of Surry County.
| Approximately 2.1 miles upstream of Reeves Mill Road (State Road 1774) | +1,218
Rutledge Creek Tributary 1 | At the confluence with Rutledge Creek | +1,077 | Unincorporated Areas of Surry County.
| Approximately 1,220 feet upstream of Reeves Mill Road (State Road 1776) | +1,107
Seed Cane Creek | Approximately 100 feet upstream of the confluence with Ararat River | +994 | City of Mount Airy.
| Approximately 730 feet upstream of Kirkman Road | +1,060
Skin Cabin Creek | At the confluence with Ararat River | +834 | Unincorporated Areas of Surry County.
| Approximately 0.7 mile upstream of Stanford Church Road (State Road 2086) | +950
Snow Creek | At the confluence with Mitchell River | +880 | Unincorporated Areas of Surry County.
| Approximately 0.9 mile upstream of I-77 Highway | +1,260
Snow Creek Tributary | At the confluence with Snow Creek | +919 | Unincorporated Areas of Surry County.
| Approximately 1,540 feet downstream of Stanley Mill Road (State Road 1111) | +953
South Fork Mitchell River | At the confluence with Mitchell River | +984 | Unincorporated Areas of Surry County.
| Approximately 0.5 mile upstream of Silver Creek Way | +1,623
South Fork Mitchell River Tributary 1 | At the confluence with South Fork Mitchell River | +1,068 | Unincorporated Areas of Surry County.
| Approximately 80 feet downstream of Pat Nixon Road (State Road 1306) | +1,091
South Fork Mitchell River Tributary 2 | At the confluence with South Fork Mitchell River | +1,159 | Unincorporated Areas of Surry County.
| Approximately 250 feet downstream of Abe Mayes Road (State Road 1319) | +1,205
South Fork Mitchell River Tributary 2A | At the confluence with South Fork Mitchell River Tributary 2 | +1,173 | Unincorporated Areas of Surry County.
| Approximately 1,740 feet upstream of the confluence with South Fork Mitchell River Tributary 2 | +1,206
South Fork Mitchell River Tributary 2B | At the confluence with South Fork Mitchell River Tributary 2 | +1,178 | Unincorporated Areas of Surry County.
| Approximately 0.5 mile upstream of the intersection of Oscar Calloway Road and Abe Mayes Road (State Road 1319) | +1,210
Stewarts Creek | Approximately 0.5 mile upstream of Interstate 77 | +1,226 | Unincorporated Areas of Surry County.
| At the NC/VA State boundary | +1,309
Stewarts Creek Tributary 1 | At the confluence with Stewarts Creek | +1,011 | Unincorporated Areas of Surry County, City of Mount Airy.
| Approximately 0.5 mile upstream of West Old McKinney Road (State Road 1429) | +1,078
Stewarts Creek Tributary 2 | At the confluence with Stewarts Creek | +1,058 | Unincorporated Areas of Surry County.
| Approximately 230 feet upstream of Oak Ridge Drive (State Road 1504) | +1,248
Stewarts Creek Tributary 2A | At the confluence with Stewarts Creek Tributary 2 | +1,117 | Unincorporated Areas of Surry County.
| Approximately 710 feet upstream of Melrose Trail | +1,252
Stoney Creek | At the confluence with Ararat River | +916 | Unincorporated Areas of Surry County.
| Approximately 170 feet upstream of Mills Road | +1,208
Toms Creek | At the confluence with Ararat River | +879 | Unincorporated Areas of Surry County, Town of Pilot Mountain.
| Approximately 0.5 mile upstream of Matthews Road (State Road 1830) | +964
Toms Creek Tributary 1 | At the confluence with Toms Creek | +909 | Unincorporated Areas of Surry County.
| Approximately 0.8 mile upstream of the confluence of Toms Creek Tributary 1A | +954
Toms Creek Tributary 1A | At the confluence with Toms Creek Tributary 1 | +919 | Unincorporated Areas of Surry County.
| Approximately 1,430 feet upstream of the confluence with Toms Creek Tributary 1 | +934
Toms Creek Tributary 2 | At the confluence with Toms Creek | +931 | Town of Pilot Mountain.
| Approximately 210 feet upstream of Foothill Farm Lane | +951
Turkey Creek | At the confluence with Yadkin River | +890 | Town of Elkin.
| Approximately 0.6 mile upstream of NC 268 Highway | +927
West Double Creek | At the confluence with East Double Creek | +822 | Unincorporated Areas of Surry County.
| Approximately 1.5 miles upstream of Old Rockford Road (State Road 2230) | +903
West Double Creek Tributary 1 | At the confluence with West Double Creek | +834 | Unincorporated Areas of Surry County.
| Approximately 0.5 mile upstream of Dobson Spring Trail | +899
West Double Creek Tributary 1A | At the confluence with West Double Creek Tributary 1 | +877 | Unincorporated Areas of Surry County.
| Approximately 0.5 mile upstream of the confluence with West Double Creek Tributary 1 | +907
Whittier Creek | At the confluence with Bull Creek | +931 | Unincorporated Areas of Surry County.
| Approximately 1.8 miles upstream of the confluence with Bull Creek | +987
Wood Branch | At the confluence with South Fork Mitchell River | +1,117 | Unincorporated Areas of Surry County.
| Approximately 0.8 mile upstream of the confluence with South Fork Mitchell River | +1,158
Yadkin River | At the Surry/Yadkin/Forsyth County boundary | +758 | Unincorporated Areas of Surry County, Town of Elkin.
| Approximately 1.2 miles upstream of the confluence with Elkin Creek | +903
Yadkin River Tributary 12 | At the confluence with Yadkin River | +866 | Unincorporated Areas of Surry County.
| Approximately 0.8 mile upstream of Railroad | +881
Yadkin River Tributary 13 | At the confluence with Yadkin River | +887 | Unincorporated Areas of Surry County.
| Approximately 1,260 feet upstream of NC 268 Highway | +895
Yadkin River Tributary 16 | At the confluence with Yadkin River | +824 | Unincorporated Areas of Surry County.
| Approximately 0.5 mile upstream of Railroad | +850
Yadkin River Tributary 18 | At the confluence with Yadkin River | +831 | Unincorporated Areas of Surry County.
| Approximately 10 feet upstream of Golden Eagle Trail | +885
Yadkin River Tributary 37 | At the confluence with Yadkin River | +800 | Unincorporated Areas of Surry County.
| Approximately 1,680 feet upstream of John Mickles Road (State Road 2075) | +852
* National Geodetic Vertical Datum.
+ North American Vertical Datum.
# Depth in feet above ground.
ADDRESSES
City of Mount Airy
Maps are available for inspection at Mount Airy City Hall, 300 South Main Street, Mount Airy, North Carolina.
Town of Dobson
Maps are available for inspection at Dobson Town Hall, 307 North Main Street, Dobson, North Carolina.
Town of Elkin
Maps are available for inspection at Elkin Town Hall, 226 North Bridge Street, Elkin, North Carolina.
Town of Pilot Mountain
Maps are available for inspection at Pilot Mountain Town Hall, 124 West Main Street, Pilot Mountain, North Carolina.
Unincorporated Areas of Surry County
Maps are available for inspection at Surry County Planning Department, 122 Hamby Road, Dobson, North Carolina.
Portage County, Ohio, and Incorporated Areas
FEMA Docket No.: B-7768
Breakneck Creek | Approximately 260 feet upstream of Brady Lake Road | +1,040 | Unincorporated Areas of Portage County.
| At confluence of Breakneck Creek and Hudson Ditch | +1,069
Breakneck Creek Overflow | Approximately 5,300 feet upstream of Main Street | +1,048 | City of Kent.
| Approximately 1,400 feet downstream of Powder Mill Road | +1,048
Breakneck Creek Overflow | Approximately 3,500 feet upstream of Main Street | +1,047 | Unincorporated Areas of Portage County.
| Approximately 600 feet downstream of Powder Mill Road | +1,048
Cuyahoga River | Approximately 80 feet upstream of Main Street | +1,084 | Village of Mantua.
| Approximately 3,300 feet upstream of High Street | +1,087
Cuyahoga River | Approximately 1,500 feet upstream of River Bend Boulevard | +1,040 | Unincorporated Areas of Portage County.
| Approximately 2,900 feet upstream of River Bend Boulevard | +1,040
| Approximately 1,600 feet downstream of Infirmary Road | +1,082
| Approximately 3,300 feet upstream of High Street | +1,087
Cuyahoga River Overflow | Approximately 1,100 feet upstream of confluence with Cuyahoga River | +1,083 | Village of Mantua.
| Approximately 2,600 feet upstream of confluence with Cuyahoga River | +1,083
Cuyahoga River Overflow | Approximately 700 feet upstream of confluence with Cuyahoga River | +1,083 | Unincorporated Areas of Portage County.
| Approximately 1,700 feet upstream of confluence with Cuyahoga River | +1,083
Hudson Ditch | At confluence of Breakneck Creek and Hudson Ditch | +1,069 | Unincorporated Areas of Portage County.
| Approximately 2,300 feet upstream of Bower Road | +1,084
Plum Creek | Approximately 30 feet upstream of Railroad | +1,017 | City of Kent.
| Approximately 200 feet downstream of Howe Road | +1,040
Plum Creek | Approximately 330 feet downstream of Howe Road | +1,039 | Unincorporated Areas of Portage County.
| Approximately 4,000 feet upstream of Tallmadge Road | +1,078
* National Geodetic Vertical Datum.
+ North American Vertical Datum.
# Depth in feet above ground.
ADDRESSES
City of Kent
Maps are available for inspection at 930 Overholt Road, Kent, OH 44240.
Unincorporated Areas of Portage County
Maps are available for inspection at 449 South Meridian Street, Ravenna, OH 44266.
Village of Mantua
Maps are available for inspection at 4736 East High Street, Mantua, OH 44255.
Wayne County, Ohio, and Incorporated Areas
FEMA Docket No.: B-7794
Killbuck Ditch (backwater from Killbuck Creek) | Downstream of railroad crossing at Burbank Road | +967 | Unincorporated Areas of Wayne County, Village of Creston.
| Confluence with Killbuck Creek | +967 | Village of Creston.
Unnamed Tributary (backwater from Killibuck Creek) | Confluence with Killbuck Creek | +976 | Unincorporated Areas of Wayne County, Village of Creston.
| Upstream of S. Main Street in Village of Creston | +976
* National Geodetic Vertical Datum.
+ North American Vertical Datum.
# Depth in feet above ground.
ADDRESSES
Unincorporated Areas of Wayne County
Maps are available for inspection at 428 West Liberty Street, Wooster, OH 44691.
Village of Creston
Maps are available for inspection at 100 N Main Street, Creston, OH 44217.
Brown County, Wisconsin, and Incorporated Areas
FEMA Docket No.: B-7758
Ash Street Tributary to Lancaster Creek | Approximately 510 feet downstream of Ash Street | +602 | Village of Howard.
| Approximately 160 feet upstream of Ash Street | +608
Ashwaubenon Creek | Approximately 2,990 feet downstream of Memorial Park Road | +586 | Unincorporated Areas of Brown County, City of De Pere, Village of Ashwaubenon.
| Approximately 3,940 feet upstream of Scheuring Road | +613
Ashwaubenon Creek (Middle) | Approximately 3,980 feet downstream of Creamery Road | +618 | Unincorporated Areas of Brown County, City of De Pere.
| Approximately 8,085 feet upstream of Creamery Road | +629
Ashwaubenon Creek (Upper) | Approximately 240 feet downstream of William Grant Drive | +652 | Unincorporated Areas of Brown County.
| Approximately 185 feet upstream of William Grant Drive | +661
Baird Creek | Approximately 425 feet upstream of U.S. Route 141 | +589 | Unincorporated Areas of Brown County, City of Green Bay.
| Just upstream of Northview Road | +778
Baird Creek Tributary | Approximately 6,340 feet downstream of Erie Road | +701 | City of Green Bay.
| Approximately 1,465 feet upstream of Finger Road | +778
Baird Creek Tributary 6 | Approximately 450 feet downstream of Fox Valley and Western Railroad | +619 | City of Green Bay.
| Approximately 910 feet upstream of Fox Valley and Western Railroad | +673
Bakers Creek | Approximately 155 feet downstream of Belmont Road | +649 | Village of Howard.
| Approximately 940 feet upstream of Hillcrest Heights Road | +658
Bakers Creek Tributary | Approximately 125 feet upstream of railroad | +603 | Village of Howard.
| Approximately 2,325 feet upstream of railroad | +617
Barina Creek | Approximately 320 feet downstream of Church Road | +613 | City of Green Bay.
| Approximately 2,000 feet upstream of Church Road | +621
Beaver Dam Creek | Approximately 420 feet downstream of Velp Avenue | +588 | Village of Howard, City of Green Bay, Oneida Tribe.
| Approximately 1,400 feet upstream of Packerland Drive | +677
Bower Creek | At the confluence with the East River | +591 | Village of Bellevue, Town of Ledgeview.
| Approximately 10,570 feet upstream of Lime Kiln Road | +635 | Bower Creek Tributary.
Bower Creek Tributary | Approximately 396 feet downstream of Pine Grove Road | +827 | Unincorporated Areas of Brown County, Town of Ledgeview.
| Approximately 52 feet upstream of Dickinson Road | +833
Bower Creek Tributary 1 | Approximately 40 feet downstream of Monroe Road | +591 | Village of Bellevue, Town of Ledgeview.
| Approximately 4,610 feet upstream of Bower Creek Road | +618
Bower Creek Tributary 2 | Approximately 110 feet downstream of Bower Creek Road | +595 | Village of Bellevue, Town of Ledgeview.
| Approximately 3,260 feet upstream of Meadow Sound Drive | +733
Bower Creek Tributary A | Approximately 860 feet downstream of its confluence with Bower Creek Tributary B | +604 | Village of Bellevue, Town of Ledgeview.
| Approximately 4,465 feet upstream of its confluence with Bower Creek Tributary B | +639
Bower Creek Tributary B | At the confluence with Bower Creek Tributary A | +606 | Village of Bellevue, Town of Ledgeview.
| Approximately 2,420 feet upstream of its confluence with Bower Creek Tributary A | +630
Branch River | Approximately 400 feet downstream of Park Road | +845 | Unincorporated Areas of Brown County.
| Approximately 3,960 feet upstream of Park Road | +852
Branch of Plum Creek | Approximately 610 feet upstream of Holland Court | +765 | Unincorporated Areas of Brown County.
| Approximately 1,245 feet upstream of Holland Court | +766
Branch of Plum Creek Lower Tributary | At the confluence with Branch of Plum Creek | +766 | Unincorporated Areas of Brown County.
| Approximately 1,590 feet upstream of its confluence with Branch of Plum Creek | +773
Branch of Plum Creek Upper Tributary | At the confluence with Branch of Plum Creek | +765 | Unincorporated Areas of Brown County.
| Approximately 1,190 feet upstream of its confluence with Branch of Plum Creek | +769
Duck Creek | Approximately 90 feet downstream of State Highway 41 | +586 | Village of Howard, City of Green Bay, Oneida Tribe, Village of Hobart.
| Approximately 4,825 feet upstream of State Highway 54 | +676
Duck Creek Tributary 11 | At the confluence with Duck Creek | +606 | City of Green Bay, Oneida Tribe.
| Approximately 1,000 feet upstream of Open Gate Trail | +673
Duck Creek Tributary 12 | Approximately 925 feet downstream of West Mason Street | +630 | City of Green Bay, Oneida Tribe, Village of Hobart.
| Approximately 1,900 feet upstream of West Mason Street | +677
Dutchman Creek | Approximately 1,000 feet downstream of Broadway Street | +586 | Village of Ashwaubenon, Oneida Tribe, Village of Hobart.
| Approximately 1,950 feet upstream of Packerland Drive | +651
Dutchman Creek North Tributary | Approximately 90 feet downstream of U.S. Highway 41 | +605 | Village of Ashwaubenon.
| Approximately 120 feet upstream of North Road | +677
Dutchman Creek South Tributary | Approximately 1,095 feet downstream of Parkview Road | +611 | Village of Ashwaubenon.
| Approximately 1,845 feet upstream of Glory Road | +624
Dutchman Creek Southeast Tributary | Approximately 1,350 feet downstream of Main Avenue | +623 | Village of Ashwaubenon.
| Approximately 5,550 feet upstream of Main Avenue | +637
Dutchman Creek Southwest Tributary | Approximately 1,350 feet downstream of Main Street | +624 | Village of Ashwaubenon, Unincorporated Areas of Brown County.
| Approximately 5,350 feet upstream of County Highway G | +637
East River | Approximately 1,650 feet downstream of North Monroe Avenue | +586 | City of Green Bay, City of De Pere, Town of Ledgeview, Unincorporated Areas of Brown County, Village of Allouez, Village of Bellevue.
| Just upstream of Wrightstown Road | +631
East River Tributary | Approximately 60 feet downstream of Monroe Road | +589 | Town of Ledgeview.
| Approximately 65 feet upstream of Dickinson Road | +595
East River Tributary A | Approximately 990 feet downstream of Dickinson Road | +592 | Town of Ledgeview, City of De Pere.
| Approximately 670 feet upstream of Heritage Road | +613
East River Tributary B | At the confluence with East River Tributary A | +592 | Town of Ledgeview.
| Approximately 1,825 feet upstream of its confluence with East River Tributary A | +595
East Verlin North Tributary to Willow Creek | At the confluence with East Verlin Tributary to Willow Creek | +606 | Village of Bellevue.
| Approximately 15 feet upstream of Fox Valley and Western Railroad | +606
East Verlin Tributary to Willow Creek | At the confluence with Willow Creek | +591 | Village of Bellevue, City of Green Bay.
| Approximately 2,900 feet upstream of Lime Kiln Road | +622
Ellis Creek | Approximately 2,625 feet downstream of Edgewood Drive | +651 | City of Green Bay.
| Approximately 1,105 feet upstream of Edgewood Drive | +670
Fox River | Approximately 2,500 feet downstream of Interstate 43 | +583 | City of Green Bay, City of De Pere, Town of Ledgeview, Unincorporated Areas of Brown County, Village of Allouez, Village of Ashwaubenon, Village of Wrightstown.
| Just downstream of State Highway 96 | +601
Lancaster Creek | Approximately 20 feet downstream of Riverview Drive | +586 | Village of Howard.
| Approximately 3,980 feet upstream of Shawano Avenue | +623
Lancaster Creek Tributary | Just upstream of Rockwell Road | +618 | Village of Howard.
| Approximately 1,775 feet upstream of Rockwell Road | +630
Mahon Creek | Approximately 1,125 feet downstream of Nicolet Drive | +586 | City of Green Bay.
| Approximately 1,485 feet upstream of Spartan Road | +775
Middle Branch of Little Suamico River | Approximately 40 feet downstream of Summit Street | +795 | Village of Pulaski.
| Approximately 100 feet upstream of Lincoln Street | +807
North Branch Ashwaubenon Creek | At the confluence with South Branch Ashwaubenon Creek | +661 | Unincorporated Areas of Brown County, Oneida Tribe, Village of Hobart.
| Just downstream of North County Line Road | +681
North Branch Bakers Creek | At the confluence with Bakers Creek | +655 | Village of Howard.
| Approximately 2,020 feet upstream of its confluence with Bakers Creek | +665
North Branch Willow Creek | Approximately 175 feet downstream of Main Street | +629 | Village of Bellevue, City of Green Bay.
| Approximately 9,680 feet upstream of Manitowoc Road | +736
North Tributary South Branch Ashwaubenon Creek | At the confluence with South Branch Ashwaubenon Creek | +664 | Unincorporated Areas of Brown County.
| Approximately 2,200 feet from the confluence of South Branch Ashwaubenon Creek | +675
Oneida Creek | Approximately 1,270 feet downstream of County Club Court | +596 | City of Green Bay, Oneida Tribe.
| Approximately 4,755 feet upstream of Country Club Court | +640
Pioneer Tributary to Duck Creek | Approximately 895 feet downstream of Cardinal Lane | +591 | Village of Howard.
| Approximately 150 feet upstream of Cardinal Lane | +596
Plum Creek | Approximately 675 feet downstream of Washington Street | +602 | Village of Wrightstown, Unincorporated Areas of Brown County.
| Approximately 11,250 feet upstream of Washington Street | +618
Sorensons Creek | At the confluence with Spring Creek | +602 | Village of Bellevue, Town of Ledgeview.
| Approximately 80 feet upstream of Big Creek Road | +683
Sorensons Creek Tributary | Approximately 4,720 feet downstream of Santa Monica Drive | +644 | Village of Bellevue.
| Approximately 3,430 feet upstream of Manitowoc Road | +747
South Branch Ashwaubenon Creek | Approximately 3,325 feet downstream of Noah Road | +661 | Unincorporated Areas of Brown County.
| Approximately 990 feet upstream of Freedom Road | +671
South Branch Little Suamico River | Approximately 80 feet downstream of Corporate Way | +783 | Village of Pulaski, Unincorporated Areas of Brown County.
| Approximately 1,935 feet upstream of Pelican Drive | +799
South Tributary to Willow Creek | At the confluence with Willow Creek | +590 | Village of Bellevue.
| Approximately 630 feet upstream of Lime Kiln Road | +601
Spring Creek | Approximately 1,305 feet downstream of Lime Kiln Road | +595 | Village of Bellevue.
| Approximately 1,520 feet upstream of Willow Road | +784
Spring Creek Tributary A | Approximately 950 feet downstream of Madrid Drive | +703 | Village of Bellevue.
| Approximately 170 feet upstream of Ontario Road | +743
Spring Creek Tributary A Ditch | At the confluence with Spring Creek Tributary A | +736 | Village of Bellevue.
| Approximately 580 feet upstream of the confluence with Spring Creek Tributary A | +740
Spring Creek Tributary B | Approximately 2,910 feet downstream of Cottage Road | +732 | Village of Bellevue.
| Approximately 450 feet upstream of Cottage Road | +760
Suamico River | Approximately 7,880 feet downstream of Lakeview Road | +586 | Village of Suamico.
| Approximately 1,150 feet upstream of Bridge Road | +606
Tributary 1 to Dutchman Creek Southwest Tributary | Approximately 310 feet downstream of Lost Lane | +642 | Village of Ashwaubenon, Oneida Tribe, Village of Hobart.
| Approximately 490 feet upstream of South Packerland Drive | +665
Tributary 2 to Dutchman Creek Southwest Tributary | At the confluence with Dutchman Creek Southwest Tributary | +642 | Village of Ashwaubenon.
| Approximately 2,550 feet upstream of the confluence with Dutchman Creek Southwest Tributary | +666
Tributary 3 to Dutchman Creek Southwest Tributary | At the confluence with Dutchman Creek Southwest Tributary | +646 | Village of Ashwaubenon.
| Approximately 1,950 feet upstream of the confluence with Dutchman Creek Southwest Tributary | +664
Trout Creek | Approximately 1,060 feet downstream of North Hillcrest Drive | +610 | Village of Hobart, Oneida Tribe.
| Just upstream of Sunlite Drive | +727
Unnamed Tributary to Green Bay | Approximately 525 feet downstream of Nicolet Drive | +588 | City of Green Bay.
| Approximately 1,755 feet upstream of Nicolet Drive | +624
Vanguard Way Tributary to Lancaster Creek | At the confluence with Lancaster Creek | +610 | Village of Howard.
| Approximately 755 feet upstream of the confluence with Lancaster Creek | +629
West Verlin Tributary to Willow Creek | Approximately 1,220 feet downstream of Bellevue Street | +590 | Village of Bellevue, City of Green Bay.
| Approximately 2,990 feet upstream of Verlin Road | +597
Willow Creek | At the confluence with the East River | +590 | Village of Bellevue, City of Green Bay.
| Approximately 1,740 feet upstream of Ontario Road | +760
* National Geodetic Vertical Datum.
+ North American Vertical Datum.
# Depth in feet above ground.
ADDRESSES
City of De Pere
Maps are available for inspection at Building Inspection Department, 335 South Broadway, De Pere, WI 54115.
City of Green Bay
Maps are available for inspection at Department of Public Works, Inspection Division, 100 North Jefferson Street, Room 403, Green Bay, WI 54301-5026.
Oneida Tribe
Maps are available for inspection at Village Office, 2990 South Pine Tree Road, Oneida, WI 54155.
Town of Ledgeview
Maps are available for inspection at Building Department, Ledgeview Municipal Building, 3700 Dickinson Road, De Pere, WI 54115.
Unincorporated Areas of Brown County
Maps are available for inspection at Zoning Department, 320 East Walnut, Northern Building, Room 320, Green Bay, WI 54301.
Village of Allouez
Maps are available for inspection at Public Works Department, Municipal Building, 1900 Libal Street, Green Bay, WI 54301-2499.
Village of Ashwaubenon
Maps are available for inspection at Public Works Department, Village Hall, 2155 Holmgren Way, Ashwaubenon, WI 54304.
Village of Bellevue
Maps are available for inspection at Building, Zoning and Development Department, Village Office, 305 East Walnut, Room 320, Green Bay, WI 54311.
Village of Hobart
Maps are available for inspection at Planning Department, Village Office, 2990 South Pine Tree Road, Oneida, WI 54155.
Village of Howard
Maps are available for inspection at Department of Code Administration, Village Hall, 2456 Glendale Avenue, Green Bay, WI 54313.
Village of Pulaski
Maps are available for inspection at Village Clerk's Office, 421 South St. Augustine Street, Pulaski, WI 54162.
Village of Suamico
Maps are available for inspection at Building Inspection Department, Village Hall, 2999 Lakeview Drive, Suamico, WI 54173.
Village of Wrightstown
Maps are available for inspection at Building Inspection Department, Village Hall, 529 Main Street, Wrightstown, WI 54180.

(Catalog of Federal Domestic Assistance No. 97.022, “Flood Insurance.”)

Dated: March 13, 2009.
Michael K. Buckley,
Acting Assistant Administrator, Mitigation Directorate, Department of Homeland Security, Federal Emergency Management Agency.

[FR Doc. E9-6609 Filed 3-24-09; 8:45 am]

BILLING CODE 9110-12-P